DEPARTMENT OF COMMERCE

National Oceanic and Atmospheric Administration

[I.D. 110201A]

Marine Mammals; File No. 774-1649-00

AGENCY: National Marine Fisheries Service (NMFS), National Oceanic and Atmospheric Administration (NOAA), Commerce.

ACTION: Issuance of permit.

SUMMARY: Notice is hereby given that the Southwest Fisheries Science Center, National Marine Fisheries Service, 8604 La Jolla Shores Drive, La Jolla, California 92038 (Principal Investigator: Rennie Holt, Ph.D.) has been issued a permit to take Antarctic pinnipeds for purposes of scientific research.

ADDRESSES: The permit and related documents are available for review upon written request or by appointment in the following office(s):

Permits and Documentation Division, Office of Protected Resources, NMFS, 1315 East-West Highway, Room 13705, Silver Spring, MD 20910; phone (301) 713-2289; fax (301) 713-0376; and

Southwest Region, NMFS, 501 West Ocean Blvd., Suite 4200, Long Beach, CA 90802-4213; phone (562) 980-4001; fax (562) 980-4018;

FOR FURTHER INFORMATION CONTACT: Ruth Johnson or Tammy Adams (301) 713-2289.

SUPPLEMENTARY INFORMATION: On August 22, 2001, notice was published in the Federal Register (66 FR 44120) that a request for a scientific research permit to take Antarctic pinnipeds had been submitted by the above-named organization. The requested permit has been issued under the authority of the Marine Mammal Protection Act of 1972, as amended (16 U.S.C. 1361 et seq.), and the Regulations Governing the Taking and Importing of Marine Mammals (50 CFR part 216).

Dated: November 14, 2001.
Ann D. Terbush,
Chief, Permits and Documentation Division, Office of Protected Resources, National Marine Fisheries Service.

[FR Doc. 01-29163 Filed 11-20-01; 8:45 am]

BILLING CODE 3510-22-S